ENVIRONMENTAL PROTECTION AGENCY

[OPP-00666; FRL-6594-9]

Public Meeting on the Mechanisms for Limiting Quantities of Pesticides Used

AGENCY: Environmental Protection Agency (EPA).

ACTION: Notice.

SUMMARY: In its efforts to reduce risk from pesticide exposure, EPA on occasion has made agreements with pesticide registrants to cap the annual production of a particular pesticide active ingredient. In an August 1999 Memorandum of Agreement (MOA) between EPA and the registrants of azinphos-methyl (AZM), the total volume of AZM available for use each year was capped. In the MOA, a temporary approach for allocating the cap among the producers of AZM was agreed upon for 2000 with the understanding a clear mechanism for allocating the cap would be in place for subsequent years. Because EPA has restricted the quantities of certain pesticides in the past and may do so in the future, the Agency agreed to hold a public meeting to get input on establishing a mechanism for accomplishing this and any future chemical-specific quantity limits. The purpose of this notice is to announce a public meeting to discuss mechanisms for chemical-specific quantity limits and to solicit comment on EPA's preliminary thinking on the allocation of chemical-specific quantity limits.

DATES: Comments, identified by docket control number OPP-00666, must be received on or before August 24, 2000.

ADDRESSES: Comments may be submitted by mail, electronically, or in person. Please follow the detailed instructions for each method as provided in Unit I. of the SUPPLEMENTARY INFORMATION. To ensure proper receipt by EPA, it is imperative that you identify docket control number OPP-00666 in the subject line on the first page of your response.

FOR FURTHER INFORMATION CONTACT: Richard Dumas, Special Review and Reregistration Division, 7508C, Office of Pesticide Programs, Environmental Protection Agency, 1200 Pennsylvania Ave., NW., Washington, DC 20460; telephone number: (703) 308-8015; fax number: (703) 308-8041; e-mail address: dumas.richard@epa.gov.

SUPPLEMENTARY INFORMATION:

I. General Information

A. Does this Action Apply to Me?

This action is directed to the public in general. This action may, however, be of interest to pesticide registrants, pesticide user groups, and environmental groups. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register-Environmental Documents.” You can also go directly to the Federal Register listings at http://www.epa.gov/fedrgstr/.

2. In person. The Agency has established an official record for this action under docket control number OPP-00666. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-00666 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: “opp-docket@epa.gov,” or you can submit a computer disk as described above. Do not submit any information electronically that you consider to be CBI. Avoid the use of special characters and any form of encryption. Electronic submissions will be accepted in WordPerfect 6.1/8.0 or ASCII file format. All comments in electronic form must be identified by docket control number OPP-00666. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Background

A. What Action is the Agency Taking?

1. Meeting announcement. The purpose of this notice is to announce a public meeting on September 7, 2000, from 9:00 a.m. to 12:00 p.m. at the National Rural Electric Cooperative Association Conference Center, 4301 Wilson Blvd, Arlington, VA 22203; telephone number: (703) 907-5933, to get input on mechanisms for allocating chemical specific production caps. This notice also announces the opening of a public comment period to solicit comment on EPA's preliminary thoughts concerning the allocation of quantity limits. The public comment period will end on August 24, 2000.

2. Overview. Through a 1999 Memorandum of Agreement (MOA) between EPA and the registrants of technical grade azinphos-methyl (AZM), EPA sought to reduce the risks associated with AZM use. The extent of the required risk reduction measures was based, in part, on data concerning the percentage of each crop that was treated with AZM over the 1995-1998 growing seasons. Recognizing that increases in AZM use could raise the aggregate dietary risk to unacceptable levels, EPA and the registrants of technical grade AZM agreed that the volume of AZM available for use each year would be subject to a finite limit. EPA determined that the most expeditious and effective means of limiting AZM use would be through a cap on production (import) of technical grade AZM.

In the MOA, a temporary approach for allocating production among the producers of technical grade AZM was agreed upon for 2000 with the understanding that EPA would reexamine the allocation of AZM production under the cap for subsequent years. Because persons other than the present AZM registrants may have interests in the allocation of AZM production, and because chemical-specific quantity limits may be used for other pesticides in the future, the Agency agreed to hold a public meeting to get input on mechanisms for implementing chemical-specific quantity limits. Below are the characteristics that the Agency believes are needed for any chemical-specific quantity limit and some preliminary ideas on the issues that the Agency needed feedback.

3. EPA's Goals. The Agency has identified some characteristics that it believes are desirable in a chemical-specific quantity limit where there is more than one registrant producing manufacturing use products. First, the mechanism should provide reasonable assurance that the quantities of AZM used in the U.S. will not exceed EPA's targets. The mechanism should allow for economic competition between registrants that is comparable to the amount that would exist without the cap. The mechanism should neither create monopolies nor prevent new entrants into the market. The mechanism should minimize the disruption in the market. For example, EPA wants a mechanism that minimizes the incentive to flood the market with product on the first day of the year or to supply more product than the market actually needs, and minimizes the chance of shortages. Finally, any mechanism adopted must be verifiable, timely, and simple to administer.

4. Soliciting comment. There are a number of areas that the Agency is seeking input. In addition to the issues specified below, the Agency is interested in the public's input on any other areas, that may help the Agency develop a mechanism for implementing chemical-specific quantity limits that meets the goals above.

Input on how to apportion chemical-specific quantity limits. EPA could set a limit on the total quantity to be produced (imported), and leave all allocation issues to the workings of the free market. Alternatively, EPA could assign each registrant a quota, or designate quotas by crop. Each of these approaches have advantages and disadvantages. Allocating by registrant would allow the registrants to plan production and distribution more precisely than they could if EPA left allocation to the workings of the free market. However, a mechanism that allocates production (imports) by registrant may reduce price competition, and may raise anti-trust statutes concerns. Another potential weakness with allocation by registrant, is that there will be less of the pesticide available in the market place, there is no assurance that those who have the greatest need for the pesticide will have access to it. Historically, those who have the greatest need for a specific pesticide are those who grow minor use crops, such as fruits, vegetables and nursery crops. To deal with the minor use concern, the pesticide could be allocated by crop or crop groups. This approach could help direct the pesticide where the economic benefits are greatest. It potentially would require significant effort by USDA and/or the user community. This approach is likely to be administratively more cumbersome and more difficult to enforce relative to allocation by registrant. Whether or not the apportioning is by registrant or crop, it can be allocated by any number of mechanisms including a free market, a predetermined allocation set by EPA, or prescription based on pest pressure or other criteria.

Input on frequency and timing of reporting. To verify that the cap is not exceeded, some reporting is necessary. The amount and frequency of reporting will depend on the allocation mechanism used. For example, if EPA does not make any allocation between registrants, a production (import) limit would require frequent reporting of production (import) volumes in order that EPA might notify all registrants when the limit has been reached. A system where each registrant has a predetermined quota would require significantly less reporting.

Input on which 12-month period should be used. A cap implemented on a calendar year basis may pose difficulties if the calendar year does not correspond to the production, distribution and use cycles of a particular pesticide. Distributors and users may have to purchase the pesticide out of season and store it until use. Manufacturers and distributors may have difficulty anticipating demand. EPA may have difficulty ascertaining whether the risk management goal of limiting the quantity used has been achieved in a particular growing season. Accordingly, EPA seeks input on what 12-month period should be used for the AZM cap. EPA also seeks input on whether one time period could be suitable for all future caps. For simplicity, a specific time frame that can be used in all future cases would be desirable, but differing crop or production cycles may warrant setting time frames on a case-by-case basis.

Input on potential impacts to the market. As mentioned in the goals above, the Agency wants to minimize the impact on the market place. In particular, EPA wants to avoid structures that would significantly reduce price competition or that would increase barriers to new competitors entering the market.

Input on what should be capped. The current AZM cap is expressed in pounds of active ingredient imported because the present sources of technical grade AZM are overseas. EPA seeks comment on alternative approaches; for example, caps could be established for imports, production of technical or of end use products, or sales of end use product. EPA also seeks comment on whether, and how, AZM isomers should be addressed in the cap. Commenters should address how such alternatives would further, or detract from, the goals of having a mechanism that is easy to administer, verifiable, and timely.

Input on other areas that would be helpful for developing an allocation mechanism that meets the goals described above. The issues above represent some preliminary ideas on what types of things need to be considered before developing an allocation system that meets the broad goals mentioned in Unit II.A. Commenters are encourage to identify other factors that they believe would be important to develop a fair and manageable allocation mechanism.

B. What is the Agency's Authority for Taking this Action?

FIFRA section 3(c)(5)(D) allows the Administrator to register a pesticide only upon finding that the pesticide when used in accordance with widespread and commonly recognized practice will not generally cause unreasonable adverse effects on the environment. In instances where a pesticide causes adverse effects that closely approach being unreasonable, and which would become unreasonable if the pesticide were more widely used, limitations to prevent the pesticide from becoming more widely used may be necessary to maintain registration. Measures which would limit the total quantity applied are therefore consistent with EPA's statutory authority. Special Review and Reregistration Division, Office of Pesticide Programs.

List of Subjects

Environmental protection, Pesticide production caps

Dated: June 30, 2000.
Lois Rossi,
Director,

[FR Doc. 00-17355 Filed 7-7-00; 8:45 am]

BILLING CODE 6560-50-F